NATIONAL ARCHIVES AND RECORDS ADMINISTRATION

36 CFR Part 1253

RIN 3095-AA98

Location of NARA Facilities and Hours of Use

AGENCY: National Archives and Records Administration (NARA).

ACTION: Proposed rule.

SUMMARY: The National Archives and Records Administration proposes to revise its regulation that lists NARA facilities and hours when the public and other Federal agency staff may use the records in those facilities. This proposal updates information on NARA facilities throughout the United States, including the addition of two new facilities and the deletion of a closed NARA facility. Additional revisions include corrections to addresses, providing e-mail addresses for the Presidential libraries, the addition and correction of phone and fax numbers, and, in some cases, modifications to the hours that these facilities are open for research. This proposed rule will affect members of the public who do research at NARA.

DATES: Comments must be received by June 7, 2000.

ADDRESSES: Comments must be sent to Regulation Comments Desk (NPLN), Room 4100, National Archives and Records Administration, 8601 Adelphi Road, College Park, MD 20740-6001. They may be faxed to 301-713-7270.

FOR FURTHER INFORMATION CONTACT: Shawn Morton at telephone number 301-713-7360, ext. 253, or fax number 301-713-7270.

SUPPLEMENTARY INFORMATION: This proposed regulation includes information on several facility changes that have occurred since the last update to 36 CFR part 1253. In 1997, the George Bush Presidential Library was dedicated. The listing for the Bush Library is included in proposed § 1253.3, Presidential Libraries. In 1998, the Military Ocean Terminal, Bayonne, New Jersey, site of the New York Federal Records Center was closed and the NARA—Central Plains Region (Lee's Summit, MO) records center was opened. These changes are reflected in proposed § 1253.6, Records Centers.

Listings of Presidential libraries, records centers, and regional archives are revised to include uniform facility names, corrected addresses, telephone numbers, research hours, and, for Presidential libraries, e-mail addresses. The core hours of research for the libraries, records centers, and regional archives are minimally affected by the revisions found in this proposed rule.

This rule is being issued as a proposed rule with a 30-day comment period because we believe this rule will have no substantive impact on the public using records in NARA facilities.

This proposed rule is not a significant regulatory action for purposes of Executive Order 12866 of September 30, 1993, and has not been reviewed by the Office of Management and Budget. As required by the Regulatory Flexibility Act, it is hereby certified that this proposed rule will not have a significant impact on a substantial number of small entities. This proposed rule does not have federalism implications.

List of Subjects in 36 CFR Part 1253

Archives and records.

For the reasons set forth in the preamble, NARA proposes to revise part 1253 of title 36, Code of Federal Regulations, to read as follows:

PART 1253—LOCATION OF RECORDS AND HOURS OF USE

Sec.
1253.1 National Archives Building.
1253.2 National Archives at College Park.
1253.3 Presidential libraries.
1253.4 Washington National Records Center.
1253.5 National Personnel Records Center.
1253.6 Records centers.
1253.7 Regional archives.

Authority: 44 U.S.C. 2104(a).

§ 1253.1 National Archives Building.

(a) The National Archives Building is located at 700 Pennsylvania Avenue, NW., Washington, DC 20408. Business hours are 8:45 a.m. to 5:15 p.m., Monday through Friday, except Federal holidays when the building is closed. Hours for the Central Research Room and Microfilm Research Room are as follows, except Federal holidays:

(1) Monday and Wednesday, 8:45 a.m. to 5 p.m.;

(2) Tuesday, Thursday, and Friday, 8:45 a.m. to 9 p.m.; and

(3) Saturday, 8:45 a.m. to 4:45 p.m.

(b) The phone number for the research rooms is 800-234-8861.

(c) The location and business hours of the Office of the Federal Register are located in 1 CFR 2.3.

§ 1253.2 National Archives at College Park.

(a) The National Archives at College Park is located at 8601 Adelphi Road, College Park, MD 20740-6001. Business hours are 8:45 a.m. to 5:15 p.m., Monday through Friday, except Federal holidays when the building is closed.

(b) Research complex hours are as follows, except Federal holidays:

(1) Monday and Wednesday, 8:45 a.m. to 5 p.m.;

(2) Tuesday, Thursday, and Friday, 8:45 a.m. to 9 p.m.; and

(3) Saturday, 8:45 a.m. to 4:45 p.m.

(c) The phone number for the research complex is 800-234-8861.

§ 1253.3 Presidential libraries.

The Presidential libraries are open for research from 9 a.m. to 5 p.m., Monday through Friday, except Federal holidays when they are closed. NARA recommends that researchers contact the library before visiting for research. The Presidential library museums are open every day except Thanksgiving, December 25, and January 1 (with the exception of the Lyndon Baines Johnson Library that is only closed December 25). For more specific information about museum hours, please contact the libraries directly or visit the NARA web site at http://www.nara.gov/nara/president/address.html. Information for each library is as follows:

(a) Herbert Hoover Library is located at 210 Parkside Dr., West Branch, IA (mailing address: PO Box 488, West Branch, IA 52358-0488). The phone number is 319-643-5301 and the fax number is 319-643-5825. The e-mail address is library@hoover.nara.gov.

(b) Franklin D. Roosevelt Library is located at 4079 Albany Post Rd., Hyde Park, NY 12538-1999. The phone number is 914-229-8114 and the fax number is 914-229-0872. The e-mail address is library@roosevelt.nara.gov.

(c) Harry S. Truman Library is located at 500 W. US Hwy 24, Independence, MO 64050-1798. The phone number is 816-833-1400 and the fax number is 816-833-4368. The e-mail address is library@truman.nara.gov.

(d) Dwight D. Eisenhower Library is located at 200 SE Fourth Street, Abilene, KS 67410-2900. The phone number is 785-263-4751 and the fax number is 785-263-4218. The e-mail address is library@eisenhower.nara.gov.

(e) John Fitzgerald Kennedy Library is located at Columbia Point, Boston, MA 02125-3398. The phone number is 617-929-4500 and the fax number is 617-929-4538. The e-mail address is library@kennedy.nara.gov.

(f) Lyndon Baines Johnson Library is located at 2313 Red River St., Austin, TX 78705-5702. The phone number is 512-916-5137 and the fax number is 512-916-5171. The e-mail address is library@johnson.nara.gov.

(g) Gerald R. Ford Museum is located at 303 Pearl St., Grand Rapids, MI 49504-5353. The phone number is 616-451-9263 and the fax number is 616-451-9570. The e-mail address is information. museum@fordmus. nara.gov. Gerald R. Ford Library is located at 1000 Beal Avenue, Ann Arbor, MI 48109-2114. The phone number is 734-741-2218 and the fax number is 734-741-2341. The e-mail address is library@fordlib.nara.gov.

(h) Jimmy Carter Library is located at 441 Freedom Parkway, Atlanta, GA 30307-1498. The phone number is 404-331-3942 and the fax number is 404-730-2215. The e-mail address is library@carter.nara.gov.

(i) Ronald Reagan Library is located at 40 Presidential Dr., Simi Valley, CA 93065-0699. The phone number is 800-410-8354 and the fax number is 805-522-9621. The e-mail address is library@reagan.nara.gov.

(j) George Bush Library is located at 1000 George Bush Drive West, College Station, TX 77845. The phone number is 979-260-9554 and the fax number is 979-260-9557. The e-mail address is library@bush.nara.gov.

§ 1253.4 Washington National Records Center.

Washington National Records Center is located at 4205 Suitland Road, Suitland, MD (mailing address: Washington National Records Center, 4205 Suitland Road, Suitland, MD, 20746-8001). The hours are 8 a.m. to 4 p.m., Monday through Friday, except Federal holidays. The phone number is 301-457-7000.

§ 1253.5 National Personnel Records Center.

(a) Military personnel records. NARA—National Personnel Records Center—Military Personnel Records is located at 9700 Page Ave., St. Louis, MO 63132-5100. The hours are 7:30 a.m. to 4 p.m., Monday through Friday, except Federal holidays.

(b) Civilian personnel records. NARA—National Personnel Records Center—Civilian Personnel Records is located at 111 Winnebago St., St. Louis, MO 63118-4199. The hours are 7:30 a.m. to 4 p.m., Monday through Friday, except Federal holidays.

§ 1253.6 Records Centers.

All records centers are closed on Federal holidays. Information for each center is as follows:

(a) NARA—Northeast Region (Boston) is located at the Frederick C. Murphy Federal Center, 380 Trapelo Rd., Waltham, MA 02452-6399. The hours are 8 a.m. to 4:30 p.m., Monday through Friday. The telephone number is 781-647-8108.

(b) NARA—Northeast Region (Pittsfield, MA) is located at 10 Conte Drive, Pittsfield, MA 01201-8230. The hours are 7:30 a.m. to 4 p.m., Monday through Friday. The telephone number is 413-445-6885.

(c) NARA—Mid Atlantic Region (Northeast Philadelphia) is located at 14700 Townsend Rd., Philadelphia, PA 19154-1096. The hours are 8 a.m. to 4 p.m., Monday through Friday. The telephone number is 215-671-1175.

(d) NARA—Southeast Region (Atlanta) is located at 1557 St. Joseph Ave., East Point, GA 30344-2593. The hours are 7 a.m. to 4 p.m., Monday through Friday. The telephone number is 404-763-7063.

(e) NARA—Great Lakes Region (Dayton) is located at 3150 Springboro Rd., Dayton, OH 45439-1883. The hours are 7:30 a.m. to 4 p.m., Monday through Friday. The telephone number is 937-225-2852.

(f) NARA—Great Lakes Region (Chicago) is located at 7358 S. Pulaski Rd., Chicago, IL 60629-5898. The hours are 8:30 a.m. to 4:30 p.m., Monday through Friday. The telephone number is 773-581-7816.

(g) NARA—Central Plains Region (Kansas City) is located at 2312 E. Bannister Rd., Kansas City, MO 64131-3011. The hours are 8 a.m. to 4 p.m., Monday through Friday. The telephone number is 816-926-6920.

(h) NARA—Central Plains Region (Lee's Summit, MO) is located at 200 Space Center Drive, Lee's Summit, MO 64064-1182. The hours are 8 a.m. to 4 p.m., Monday through Friday. The telephone number is 816-478-7079.

(i) NARA—Southwest Region (Fort Worth) is located at 501 West Felix St., Bldg. 1, Fort Worth, TX (mailing address: P.O. Box 6216, Fort Worth, TX 76115-0216). The hours are 8 a.m. to 4 p.m., Monday through Friday. The telephone number is 817-334-5515.

(j) NARA—Rocky Mountain Region (Denver) is located at Building 48, Denver Federal Center, West 6th Ave. and Kipling Street, Denver, CO (mailing address: PO Box 25307, Denver, CO 80225-0307). The hours are 7:30 a.m. to 3:45 p.m., Monday through Friday. The telephone number is 303-236-0827.

(k) NARA—Pacific Region (San Francisco) is located at 1000 Commodore Dr., San Bruno, CA 94066-2350. The hours are 7:30 a.m. to 4 p.m., Monday through Friday. The telephone number is 650-876-9077.

(l) NARA—Pacific Region (Laguna Niguel, CA) is located at 24000 Avila Rd., 1st Floor East Entrance, Laguna Niguel, CA (mailing address: PO Box 6719, Laguna Niguel, CA 92607-6719). The hours are 8 a.m. to 4:30 p.m., Monday through Friday. The telephone number is 949-360-6334.

(m) NARA—Pacific Alaska Region (Seattle) is located at 6125 Sand Point Way NE, Seattle, WA 98115-7999. The hours are 7:45 a.m. to 4:15 p.m., Monday through Friday. The telephone number is 206-526-6501.

§ 1253.7 Regional archives.

Most regional archives offer extended research room hours for microfilm research only. Information on extended hours is available from individual facilities. Regional archives are closed on Federal holidays. Information on each regional archives facility is as follows:

(a) NARA—Northeast Region (Boston) is located in the Frederick C. Murphy Federal Center, 380 Trapelo Rd., Waltham, MA 02452-6399. The hours are 8 a.m. to 4:30 p.m., Monday through Friday. The telephone number is 781-647-8100.

(b) NARA—Northeast Region (Pittsfield, MA) is located at 10 Conte Drive, Pittsfield, MA 01201-8230. The hours are 8 a.m. to 4 p.m., Monday through Friday. The telephone number is 413-445-6885.

(c) NARA—Northeast Region (New York City) is located at 201 Varick St., New York, NY 10014-4811. The hours are 8 a.m. to 4:30 p.m., Monday through Friday. The telephone number is 212-337-1300.

(d) NARA—Mid Atlantic Region (Center City Philadelphia) is located at 900 Market St. Room 1350, Philadelphia, PA 19107-4292. The hours are 8 a.m. to 5 p.m., Monday through Friday. The telephone number is 215-597-3000.

(e) NARA—Southeast Region (Atlanta) is located at 1557 St. Joseph Ave., East Point, GA 30344-2593. The hours are 7 a.m. to 4 p.m., Monday through Friday. The telephone number is 404-763-7474.

(f) NARA—Great Lakes Region (Chicago) is located at 7358 S. Pulaski Rd., Chicago, IL 60629-5898. The hours are 8 a.m. to 4:15 p.m., Monday through Friday. The telephone number is 773-581-7816.

(g) NARA—Central Plains Region (Kansas City) is located at 2312 E. Bannister Rd., Kansas City, MO 64131-3060. The hours are 8 a.m. to 4 p.m., Monday through Friday. The telephone number is 816-926-6982.

(h) NARA—Southwest Region (Fort Worth) is located at 501 West Felix St., Bldg. 1, Dock 1, Fort Worth, TX (mailing address: P.O. Box 6216, Fort Worth, TX, 76115-0216). The hours are 8 a.m. to 4 p.m., Monday through Friday. The telephone number is 817-334-5525.

(i) NARA—Rocky Mountain Region (Denver) is located at Building 48, Denver Federal Center, West 6th Avenue and Kipling Street, Denver, CO (mailing address: PO Box 25307, Denver, CO 80225-0307). The hours are 7:30 a.m. to 3:45 p.m., Monday through Friday. The telephone number is 303-236-0804.

(j) NARA—Pacific Region (Laguna Niguel, CA) is located at 24000 Avila Rd., 1st Floor East Entrance, Laguna Niguel, CA (mailing address: PO Box 6719, Laguna Niguel, CA 92607-6719). The hours are 8 a.m. to 4:30 p.m., Monday through Friday. The telephone number is 949-360-2641.

(k) NARA—Pacific Region (San Francisco) is located at 1000 Commodore Dr., San Bruno, CA 94066-2350. The hours are 7:30 a.m. to 4:00 p.m., Monday through Friday. The telephone number is 650-876-9009.

(l) NARA—Pacific Alaska Region (Seattle) is located at 6125 Sand Point Way NE, Seattle, WA 98115-7999. The hours are 7:45 a.m. to 4:15 p.m., Monday through Friday. The telephone number is 206-526-6501.

(m) NARA—Pacific Alaska Region (Anchorage) is located at 654 West Third Avenue, Anchorage, AK 99501-2145. The hours are 8 a.m. to 4 p.m., Monday through Friday. The telephone number is 907-271-2443.

Dated: May 3, 2000.
John W. Carlin,
Archivist of the United States.

[FR Doc. 00-11530 Filed 5-5-00; 8:45 am]

BILLING CODE 7515-01-P